DEPARTMENT OF THE TREASURY

Submission for OMB Review; Comment Request

February 21, 2013.

The Department of the Treasury will submit the following information collection request to the Office of Management and Budget (OMB) for review and clearance in accordance with the Paperwork Reduction Act of 1995, Public Law 104-13, on or after the date of publication of this notice.

DATES: Comments should be received on or before March 29, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Office of Small and Disadvantaged Business Utilization (OSDBU)

OMB Number: 1505-0220.

Type of Review: Extension without change of a currently approved collection.

Title: Electronic Capability Statement.

Abstract: The Electronic Capability Statement will be used by firms that wish to do business with the Department of the Treasury. The form will capture key information such as NAICS, contract and subcontract award information, and past performance. The information will be stored in a database. The database will be used by OSDBU, Treasury Acquisition staff and the Troubled Asset Relief Program to conduct research when searching for small businesses to perform on Treasury contracts.

Affected Public: Private Sector: Businesses or other for-profits.

Estimated Total Burden Hours: 54.

Dawn D. Wolfgang,
Treasury PRA Clearance Officer.

[FR Doc. 2013-04439 Filed 2-26-13; 8:45 am]

BILLING CODE 4810-25-P